DEPARTMENT OF HEALTH AND HUMAN SERVICES

Centers for Disease Control and Prevention

[30-Day-12-0805]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Racial and Ethnic Approaches to Community Health (REACH) US Evaluation—Revision — National Center for Chronic Disease Prevention and Health Promotion (NCCDPHP), Centers for Disease Control and Prevention (CDC).

Background and Brief Description

From 2009-2011, CDC conducted annual risk factor surveys that tracked health trends among racial and ethnic minority groups (OMB No. 0920-0805, exp. 2/29/2012). The surveys were conducted in areas where community interventions were implemented as part of the Racial and Ethnic Approaches to Community Health across the U.S. (REACH US) program. The REACH US program is a national multilevel strategy to reduce and eliminate health disparities in racial and ethnic minorities. Priority areas for the program include breast and cervical cancer; cardiovascular disease; diabetes mellitus; adult/older adult immunization, hepatitis B, and/or tuberculosis; asthma; and infant mortality. Priority populations for the program are African American, American Indian, Alaska Native, Hispanic American, Asian American, and Pacific Islander citizens.

CDC is requesting OMB approval to conduct two additional cycles of data collection in 2012 and 2013. Risk factor information will be collected from a random sample of adults in 28 REACH US communities (900 individuals per community). After households have been selected through address-based sampling, health information will be collected through a self-administered, mailed questionnaire, or through interviews conducted by telephone or in-person with members of the selected households.

The estimated burden per response is 15 minutes. The surveys will help to assess the prevalence of various risk factors associated with chronic diseases, deficits in breast and cervical cancer screening and management, and deficits in adult immunizations. Survey results will be used for REACH US program evaluation and to assess progress towards the national goal of eliminating health disparities within minority populations.

OMB approval is requested for two years. Minor changes to the survey questions will be implemented, and adjustments will be made to the estimated number of respondents. Participation is voluntary and there are no costs to respondents other than their time. The total estimated burden hours are 9,460.

Estimated Annualized Burden Hours
Type of respondents | Form name | Number of respondents | Number of responses per respondent | Average burden per response (in hours)
| Screening Interview | 14,700 | 1 | 3/60
Members of REACH U.S. communities | Household Member Interview | 10,600 | 1 | 15/60
| REACH Study Booklet self-administered questionnaire | 24,300 | 1 | 15/60

Kimberly S. Lane,
Reports Clearance Officer, Centers for Disease Control and Prevention.

[FR Doc. 2012-1624 Filed 1-25-12; 8:45 am]

BILLING CODE 4163-18-P